NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 25, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Agriculture, Rural Development (N1-221-06-1, 3 items, 3 temporary items). Inputs, master files, and system documentation relating to an electronic system that manages and processes direct and guaranteed loans and grants for rural electric, telecommunications, water, and environmental programs.

2. Department of the Air Force, Air Force Research Laboratory (N1-AFU-07-1, 13 items, 7 temporary items). Records related to the Air Force Health Study of the health effects of the use of herbicides in Vietnam during the Vietnam War. Included are participant medical files including paper copies, PDF images, X-rays, and dental films; monitor's notes; and queries and other derived datasets. Proposed for permanent retention are the master database, database documentation, hard copy photographs, administrative history files, and a set of technical reports.

3. Department of Defense, National Geospatial-Intelligence Agency (N1-537-03-11, 19 items, 15 temporary items). Geodetic reference files and copies of field survey records, control point descriptions, control photography, planetable drawings, geodetic control data, geodetic computations, and geographic position files. Proposed for permanent retention are recordkeeping copies of control point descriptions, control photography, and planetable field survey drawings. This schedule authorizes the agency to apply the proposed disposition instructions to any recordkeeping medium.

4. Department of Homeland Security, Office of Inspector General (N1-563-07-5, 7 items, 5 temporary items). Case files of routine investigations as well as inputs, master files, and outputs of associated tracking system. Proposed for permanent retention are recordkeeping copies of significant case files and master files of associated tracking system. This schedule authorizes the agency to apply the proposed disposition instructions to any recordkeeping medium, except for master files and significant case files.

5. Department of Homeland Security, U.S. Coast Guard (N1-26-07-4, 1 item, 1 temporary item). Records documenting training and readiness drills and exercises aboard cutters. This schedule authorizes the agency to apply the proposed disposition instructions to any recordkeeping medium.

6. Department of the Interior, U.S. Geological Survey (N1-57-07-1, 11 items, 10 temporary items). Records of the Special Geologic Studies Group, including agreement files, records relating to classification and declassification, project files, and copies of maps used for research and data compilation. Proposed for permanent retention are bibliographies of work products prepared by the group.

7. Department of Justice, Bureau of Prisons (N1-129-07-3, 5 items, 5 temporary items). Inputs, outputs, system documentation and master files of PDF versions of the Regional Director's correspondence. Also included are project reference files. This schedule authorizes the agency to apply the proposed disposition instructions to any recordkeeping medium.

8. Department of Justice, Bureau of Prisons (N1-129-07-9, 1 item, 1 temporary item). Year-end roster reports of the Regional Education Administrator. This schedule authorizes the agency to apply the proposed disposition instructions to any recordkeeping medium.

9. Department of Justice, Bureau of Prisons (N1-129-07-11, 5 items, 5 temporary items). Files of the Regional Health Services Administrator relating to health care delivery for institutions located within the respective region. This schedule authorizes the agency to apply the proposed disposition instructions to any recordkeeping medium.

10. Department of Justice, Federal Bureau of Investigation (N1-65-07-8, 4 items, 2 temporary items). Inputs and outputs of the criminal incident databases of the Domestic Terrorism Analysis Unit. Proposed for permanent retention are data files and system documentation.

11. Department of Justice, Federal Bureau of Investigation (N1-65-07-9, 9 items, 9 temporary items). Inputs, outputs, master file, and system documentation of a database which tracks foreign terrorists.

12. Department of Justice, Federal Bureau of Investigation (N1-65-07-10, 3 items, 3 temporary items). Inputs, master file, and system documentation of databases used for tracking informants.

13. Department of the Navy, Agency-wide (N1-NU-07-3, 1 item, 1 temporary item). Records relating to preliminary law enforcement investigations documenting incidents that do not become full investigations. This schedule authorizes the agency to apply the proposed disposition instructions to any recordkeeping medium.

14. Department of the Navy, Agency-wide (N1-NU-07-5, 1 item, 1 temporary item). Non-investigative reports of information related to security of commands or of interest to other law enforcement agencies. This schedule authorizes the agency to apply the proposed disposition instructions to any recordkeeping medium. Paper recordkeeping copies of these files were previously approved for disposal.

15. Department of State, Bureau of Administration (N1-59-07-3, 3 items, 1 temporary item). Electronic telegrams in the Central Foreign Policy File that are indexed using only subject terms designated as temporary. Records relate to non-substantive administration, business affairs, consular affairs, and operations matters. Proposed for permanent retention are all electronic telegrams covering economic affairs, military and defense affairs, political affairs, social affairs, technology and science, and substantive administration, business services, consular, and operations matters. Also proposed as permanent are all hard copy records in the Central Foreign Policy File and the related electronic indexing information.

16. Department of Transportation, Federal Highway Administration (N1-406-06-2, 6 items, 6 temporary items). Records relating to administrative functions including records of the Contracting Officer's Technical Representative, century date conversion (Y2K) project records, Office of Inspector General hotline complaint/investigative files, and audit case files.

17. Department of Transportation, Federal Railroad Administration (N1-399-07-5, 7 items, 3 temporary items). Program files of the Office of Railroad Development including Amtrak grant administrative records, loan records, and maps generated by the U.S. Geological Survey and Federal Railroad Administration. Proposed for permanent retention are Amtrak Board of Directors records, project case files, aperture cards documenting construction of the Northeast corridor, and national and bilateral agreements. This schedule authorizes the agency to apply the proposed disposition instructions to any recordkeeping medium.

18. National Aeronautics and Space Administration, Agency-wide (N1-255-05-1, 3 items, 2 temporary items). This schedule authorizes the agency to apply the existing disposition instructions to periodic publications, regardless of recordkeeping medium. Included are newsletters, bulletins, and similar publications that contain information relating to facilities, operations, projects and mission development. Proposed for permanent retention is a record copy of each issuance.

19. Tennessee Valley Authority, Board of Directors (N1-142-07-2, 1 item, 1 temporary item). Textual records relating to the planning conducted for board of directors' events. These records include proposed and final agendas, invitation lists, meal orders, cost estimates, and reservations.

20. Tennessee Valley Authority, Board of Directors (N1-142-07-3, 1 item, 1 temporary item). Records relating to X-rays taken of welds performed during construction or maintenance jobs which provide assurance against faulty welds that may cause leaks in boilers or boiler tube sections.

21. U.S. District Courts (N1-21-07-1, 1 item, 1 temporary item). Paper case documents which have been scanned into the Case Management/Electronic Case Filing System from January 1998 to May 2006.

Dated: June 19, 2007.
Michael J. Kurtz,
Assistant Archivist for Records Services—Washington, DC

[FR Doc. E7-12245 Filed 6-22-07; 8:45 am]

BILLING CODE 7515-01-P